DEPARTMENT OF ENERGY

Federal Energy Regulatory Commission

[Docket No. ER01-262-001]

Florida Power Corporation; Notice of Filing

December 1, 2000.

Take notice that on November 27, 2000, Florida Power Corporation (Florida Power or Company), tendered for filing two amended executed Interconnection and Operating Agreements (Interconnection Agreements): One with Shady Hills Power Company, LLC (Shady Hills) and one with Reliant Energy Osceola, LLC (Reliant-Osceola). These two amended Interconnection Agreements will replace the ones originally filed by Florida Power in the above-referenced docket number on October 30, 2000. The Company is filing these amended versions to comply with the Company's pro forma Open Access Transmission Tariff (OATT) with respect to the establishment of an independent escrow account for disputed amounts and the interest rate on unpaid balances. The Company has also included additional cost of service data for each Interconnection Agreement.

The Company requests the same effective dates originally requested: October 1, 2000 for the Shady Hills Interconnection Agreement, and November 1, 2000 for the Reliant-Osceola Interconnection Agreement.

Copies of the filing were served on the Florida Public Service Commission and on the official service list in this docket.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before December 18, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31279 Filed 12-7-00; 8:45 am]

BILLING CODE 6717-01-M